DEPARTMENT OF ENERGY

Federal Energy Regulatory Commission

[Docket No. IC04-556-000; FERC Form 556]

Commission Information Collection Activities, Proposed Collection; Comment Request; Extension

August 20, 2004.

AGENCY: Federal Energy Regulatory Commission, DOE.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due by October 18, 2004.

ADDRESSES: Copies of the proposed collection of information can be obtained from the Commission's Web site (http://www.ferc.gov/docs-filing/hard-fil-elec.asp or click on “Documents and Filing”, “Hardcopy filing” and then “Electric”. Applicants for self-certification have to create their own form.) Written comments may be submitted to the Federal Energy Regulatory Commission, Attn: Michael Miller, Office of the Executive Director, ED-30, 888 First Street NE., Washington, DC 20426. Comments may be filed either in paper format or electronically. Those parties filing electronically do not need to make a paper filing. For paper filings, the original and 14 copies of such comments should be submitted to the Office of the Secretary, Federal Energy Regulatory Commission, 888 First Street, NE., Washington, DC 20426 and refer to Docket No. IC04-556-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgement to the sender's e-mail address upon receipt of comments.

All comments may be viewed, printed or downloaded remotely via the Internet through FERC's homepage using the eLibrary link. For user assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC Form No.556 “Cogeneration and Small Power Production” (OMB No. 1902-0075) is used by the Commission to implement the statutory provisions of Section 3 of the Federal Power Act (FPA), (16 U.S.C. 792-828c), and Sections 201 and 210 of the Public Utility Regulatory Policies Act of 1978 (PURPA). The reporting requirements associated with FERC Form 556 require owners or operators of small power production or cogeneration facilities, who seek qualifying status for their facilities, to file the information requested in Form 556 for Commission certification as a qualifying facility (QF).

A primary objective of PURPA is the conservation of energy through efficient use of energy resources in the generation of electric power. One means of achieving this objective is to encourage electric power production by cogeneration facilities which make use of reject heat associated with commercial or industrial processes, and by small power production facilities which use waste and renewable resources as fuel. PURPA, through the establishment of various regulatory benefits, encourages the development of small power production facilities and cogeneration facilities which meet certain technical and corporate criteria. Facilities that meet these criteria are called QF's.

Owners and operators of small power production and cogeneration facilities desiring QF certification for their facilities must file the information prescribed in FERC Form 556 with the Commission. In addition to identifying the required filing information, FERC Form 556 also outlines the QF certification procedure, and specifies the criteria which must be met for QF certification. The Commission's QF regulations are published at 18 CFR Part 292. Respondents who comply with the FERC Form 556 criteria and are granted QF certification by the Commission are exempt from certain sections of the FPA and the Public Utility Holding Company Act of 1935 as listed in 18 CFR 292.601 and 292.602.

Action: The Commission is requesting a three-year extension of the current expiration date, with no changes to the existing collection of data.

Burden Statement: Public reporting burden for this collection is estimated as:

Number of respondents annually* (1) | Number of responses per respondent (2) | Average burden hours per response (3) | Total annual burden hours (1)x(2)x(3)
FERC Form 556-FERC Certification 27 | 1 | 4 | 108
Self Certification 270 | 1 | 38 | 10,260
Totals 297 | 1 | 42 | 10,368
* The Commission has found that 90% of the applications for certification are submitted using the self certification process as opposed to completing the FERC Form 556 ( having the Commission review and prepare the certification process).

The estimated total cost to respondents is $534,276 (10,368 hours divided by 2,080 hours per employee per year times $107,185 per year average salary (including overhead) per employee (rounded off)).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Linda Mitry,
Acting Secretary.

[FR Doc. E4-1937 Filed 8-25-04; 8:45 am]

BILLING CODE 6717-01-P